DEPARTMENT OF TRANSPORTATION

Federal Aviation Administration

14 CFR Part 71

[Docket No. FAA-2025-2245; Airspace Docket No. 25-ASW-8]

RIN 2120-AA66

Amendment of Class D and Class E Airspace; Burns Flat, OK

AGENCY: Federal Aviation Administration (FAA), DOT.

ACTION: Final rule.

SUMMARY: This action amends the Class D and Class E airspace at Burns Flat, OK, and updates the name of the Clinton/Sherman Airport, Burns Flat, OK, to coincide with the FAA's aeronautical database. This action is the result of an airspace review conducted due to the decommissioning of the Burns Flat localizer outer marker (LOM) and outer marker (OM). It also brings the airspace into compliance with FAA orders and supports instrument flight rule (IFR) procedures and operations.

DATES: Effective 0901 UTC, March 19, 2026. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year. An electronic copy of this document may also be downloaded from www.federalregister.gov.

FAA Order JO 7400.11K, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class D and Class E airspace at the affected airport to support IFR operations.

History

The FAA published an NPRM for Docket No. FAA-2025-2245 in the Federal Register (90 FR 38421; August 8, 2025) proposing to amend the Class D and Class E airspace at Burns Flat, OK. Interested parties were invited to participate in this rulemaking effort by submitting written comments on the proposal to the FAA. No comments were received.

Incorporation by Reference

Class D and E airspace designations are published in paragraphs 5000 and 6005 of FAA Order JO 7400.11, Airspace Designations and Reporting Points, which is incorporated by reference in 14 CFR 71.1 on an annual basis. This document amends the current version of that order, FAA Order JO 7400.11K, dated August 4, 2025, and effective September 15, 2025. These amendments will be published in the next update to FAA Order JO 7400.11. FAA Order JO 7400.11K, which lists Class A, B, C, D, and E airspace areas, air traffic service routes, and reporting points, is publicly available as listed in the ADDRESSES section of this document.

The Rule

This action amends 14 CFR part 71 by modifying the Class D and E airspace at Burns Flat, Oklahoma due to an airspace review conducted as part of the decommissioning of the Burns Flat LOM and OM.

For the Clinton/Sherman Airport, Burns Flat, OK, Class D airspace, this action: (1) increases the radius from 4.7 miles to 5.2 miles from the airport; (2) reduces the vertical limit of the airspace from 4,500 feet MSL to 4,400 feet MSL to comply with FAA Order JO 7400.2R, Procedures for Handling Airspace Matters; and (3) updates the name of the airport from Clinton-Sherman Airport to Clinton/Sherman Airport to coincide with the FAA's aeronautical database;

For the Clinton/Sherman Airport Class E airspace extending upward from 700 ft above the surface, this action: (1) increases the radius from 7.2 miles to 7.7 miles from the airport; and (2) updates the name of the airport to from Clinton-Sherman Airport to Clinton/Sherman Airport to coincide with the FAA's aeronautical database.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1G, “FAA National Environmental Policy Act Implementing Procedures.” This airspace action is not expected to cause any potentially significant environmental impacts, and no extraordinary circumstances exist that warrant preparation of an environmental assessment.

Lists of Subjects in 14 CFR 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, is amended as follows:

Paragraph 5000 Class D Airspace.

* * * * *

ASW OK D Burns Flat, OK [Amended]

Clinton/Sherman Airport, OK

(Lat 35°20′23″ N, long 099°12′02″ W)

That airspace extending upward from the surface to and including 4,400 feet MSL within a 5.2-mile radius of Clinton/Sherman Airport. This Class D airspace area is effective during the specific dates and times established in advance by a Notice to Airmen. The effective dates and times will thereafter be continuously published in the Chart Supplement.

* * * * *

Paragraph 6005 Class E Airspace Areas Extending Upward From 700 Feet or More Above the Surface of the Earth.

* * * * *

ASW OK E5 Burns Flat, OK [Amended]

Clinton/Sherman Airport, OK

(Lat 35°20′23″ N, long 099°12′02″ W)

That airspace extending upward from 700 feet above the surface within a 7.7-mile radius of Clinton/Sherman Airport.

* * * * *

Issued in Fort Worth, Texas, on December 1, 2025.
Jerry J. Creecy,
Acting Manager, Operations Support Group, ATO Central Service Center.

[FR Doc. 2025-21804 Filed 12-2-25; 8:45 am]

BILLING CODE 4910-13-P